DEPARTMENT OF DEFENSE

Department of the Army, Corps of Engineers

Intent To Prepare a Draft Environmental Impact Statement for the Everglades Restoration Transition Plan—Phase 1

AGENCY: Department of the Army, U.S. Army Corps of Engineers, DOD.

ACTION: Notice of intent.

SUMMARY: The Jacksonville District, U.S. Army Corps of Engineers intends to prepare a Draft Environmental Impact Statement (EIS) for the Everglades Restoration Transition Plan (ERTP)—Phase 1. The ERTP will supersede the 2006 IOP for the Cape Sable Seaside Sparrow which currently regulates operations for Central & South Florida (C&SF) project features in the south Dade area. The ERTP Phase 1 aims to implement operational flexibilities based on multi-species management. This project is “phase 1” in anticipation of subsequent operational modifications that will be needed to move towards Everglades restoration. Development of the plan will include evaluation of relevant new species information and hydrological data. The ERTP Draft EIS will evaluate the anticipated affects of implementation of operations to support the recommendations of the U. S. Fish and Wildlife Service (FWS) Biological Opinion.

ADDRESSES: U.S. Army Corps of Engineers, Planning Division, Environmental Branch, P.O. Box 4970, Jacksonville, FL, 32232-0019.

FOR FURTHER INFORMATION CONTACT: Mrs. Susan Conner at 904-232-1782 or e-mail at Susan.l.Conner@.usace.army.mil.

SUPPLEMENTARY INFORMATION: a. Background—In 1999, the FWS issued a Final Biological Opinion for the Modified Water Deliveries to Everglades National Park Project (MWD Project), the C-111 Project, and the Experimental Water Deliveries to Everglades National Park Project. FWS concluded that the operations, if continued, would likely jeopardize the continued existence of the endangered Cape Sable seaside sparrow and adversely modify its critical habitat. In response, the Corps implemented an Interim Structural and Operational Plan (ISOP) in March 2000, followed by the Interim Operating Plan (IOP) in July 2002. These operations were designed to protect the sparrow pending completion of construction of the MWD Project and the C-111 Project. Because of the urgency to implement IOP in time for the next sparrow breeding season, the IOP Final Environmental Impact Statement (FEIS) was completed prior to conclusion of modeling that supported the selected plan. Pursuant to a March 2006 order by the United States District Court for the Southern District of Florida, the Corps prepared a supplement to the IOP FEIS. The Supplemental Environmental Impact Statement (SEIS), which was completed in December 2006, updated the IOP FEIS with modeling for the selected alternative and actual data collected since the May 2002 FEIS. The IOP was intended to be continued until the completion of the MWD project. However, Modified Water Deliveries project has not been fully completed, the IOP Biological Opinion will expire in November 2010, and new scientific information pertaining to listed wildlife species has become available.

b. Scoping—A scoping letter was sent to invite comments on ERTP—Phase I from Federal, State, and local agencies, affected Indian Tribes, and other interested private organizations and individuals. The scoping letter was sent out in December 2009. That scoping period closed on February 1, 2010. Based on those comments and team analysis to date, USACE has determined that an EIS is appropriate. Subsequently, scoping comments will be accepted for 30 days past the date of this NOI.

c. Coordination and Public Involvement: The Corps will serve as the lead Federal agency in the preparation of the Draft EIS. The Corps is in close coordination with the FWS. The Corps intends to coordinate and/or consult with an interagency team of Federal, State and Local agencies as well as affected Indian Tribes during scoping and preparation of the Draft EIS.

d. Other Environmental Review and Consultation: The proposed action would involve evaluation for compliance with the Endangered Species act. The USACE will be submitting a Biological Assessment to the FWS and the FWS will prepare a Biological Opinion. All other applicable Environmental regulations will be complied with and reviews will be completed.

e. Draft EIS Preparation: The Draft EIS is expected to be published in June 2010.

Dated: February 17, 2010.
Eric Summa,
Chief, Environmental Branch.

[FR Doc. 2010-4116 Filed 2-26-10; 8:45 am]

BILLING CODE 3720-58-P